DEPARTMENT OF THE INTERIOR

Bureau of Land Management

[LLES002000.L1430000.ES0000; FLES 051657]

Notice of Realty Action: Recreation and Public Purposes Act (R&PP) Act Classification and Conveyance; Lee County, FL

AGENCY: Bureau of Land Management, Interior.

ACTION: Notice of realty action.

SUMMARY: The Bureau of Land Management (BLM) has examined and found suitable for lease and/or conveyance to the City of Sanibel Island under the provisions of the Recreation and Public Purposes (R&PP) Act of 1926, as amended (43 U.S.C. 869 et seq.), approximately 44.77 acres of public land in Sanibel Island, Lee County, Florida. The City of Sanibel Island proposes to use the land for a park.

DATES: Interested parties may submit written comments regarding this proposed classification or lease/conveyance of public land until August 24, 2009.

ADDRESSES: Please submit your written comments to the Field Manager, Bureau of Land Management—Eastern States (BLM-ES), Jackson Field Office, 411 Briarwood Drive, Suite 404, Jackson, Mississippi 39206. Comments received in electronic form, such as e-mail or facsimile, will not be considered.

FOR FURTHER INFORMATION CONTACT: Vicky Craft, BLM-ES Jackson Field Office at (601) 977-5435 or at the address above.

SUPPLEMENTARY INFORMATION: In accordance with Section 7 of the Act of June 28, 1943, as amended, (43 U.S.C 315f), and Executive Order (EO) 6964, the following described public land in Lee County, Florida has been examined and found suitable for classification for lease and/or conveyance under the provisions of the R&PP Act, as amended, (43 U.S.C. 869 et seq.) and, accordingly, opened for only that purpose.

Tallahassee Meridian

T. 46 S., R.23 E.,

Sec. 21, lots 1 and 4.

The area described contains 44.77 acres, more or less, in Lee County, Florida.

The parcel contains the Sanibel Island Lighthouse and is located on the eastern point of the island. The land had been withdrawn to the United States Coast Guard (USCG) for lighthouse purposes by Executive Order on December 19, 1883. The withdrawal was revoked by Public Land Order (PLO) No. 7711, which made the land available for lease and/or conveyance under the R&PP Act. Conveyance of the land to the City of Sanibel Island is consistent with the Florida Resource Management Plan, dated June 21, 1995, and would be in the public interest. Additional detailed information pertaining to this application, including a plan of development, and map depicting the public land is available for review at the BLM-ES Jackson Field Office.

The City of Sanibel Island has not applied for more than the 640 acre limitation for recreation uses in a year and has submitted a statement in compliance with the regulations at 43 CFR 2741.4(b). The City of Sanibel Island proposes to use the land as a park.

The City of Sanibel Island has applied for patent to the land under the R&PP Act of 1926. The patent or a lease, if issued, would be subject to the following terms, conditions and reservations to the United States:

1. Provisions of the R&PP Act of 1926, as amended, and all applicable regulations of the Secretary of the Interior, including, but not limited to, those terms required by 43 CFR 2741.9.

2. Valid existing rights.

3. Reserved right of the USCG to maintain the light and have ingress and egress rights to the light.

4. All minerals are reserved to the United States, together with the right to prospect, mine and remove the minerals.

5. Terms and conditions identified through the site specific environmental analysis.

6. Any other rights or reservations that the authorized officer deems appropriate to ensure public access and proper management of Federal land and interest therein.

7. The lessee/patentee, its successors or assigns, by accepting a lease/patent, agrees to indemnify, defend, or hold the United States, its officers, agents, representatives, and employees (hereinafter “United States”) harmless from any costs, damages, claims, causes of action, penalties, fines, liabilities, and judgments of any kind or nature arising out of, or in connection with the lessee's/patentee's use, occupancy, or operations on the leased/patented real property. This indemnification and hold harmless agreement includes, but is not limited to, acts or omissions of the patentee and its employees, agents, contractors, lessees, or any third party, arising out of or in connection with the lessee's/patentee's use, occupancy or operations on the patented real property which cause or give rise to, in whole or in part: (1) Violations of Federal, State, and local laws and regulations that are now, or may in future become, applicable to the real property and/or applicable to the use, occupancy, and/or operations thereon; (2) Judgments, claims, or demands of any kind assessed against the United States; (3) Costs, expenses or damages of any kind incurred by the United States; (4) Releases or threatened releases of solid or hazardous waste(s) and/or hazardous substance(s), pollutant(s) or contaminant(s), and/or petroleum product or derivative of a petroleum product, as defined by Federal and state environmental laws; off, on, into or under land, property and other interests of the United States; (5) Other activities by which solid or hazardous substances(s) or waste(s), pollutant(s) or contaminant(s), or petroleum product or derivative of a petroleum product as defined by Federal and State environmental laws are generated, stored, used or otherwise disposed of on the patented real property, and any cleanup response, remedial action, or other actions related in any manner to the said solid or hazardous substance(s) or waste(s), pollutant(s) or contaminant(s), or petroleum product or derivative of a petroleum product; (6) Natural resource damages as defined by Federal and State laws. Lessee/Patentee shall stipulate that it will be solely responsible for compliance with all applicable Federal, State and local environmental laws and regulatory provisions, throughout the life of the facility, including and closure and/or post-closure requirements that may be imposed with respect to any physical plant and/or facility upon the real property under any Federal, State or local environmental laws or regulatory provisions. In the case of a patent being issued, this covenant shall be construed as running with the patented real property and may be enforced by the United States in a court of competent jurisdiction.

Upon publication of this notice in the Federal Register, the land described above will be segregated from all other forms of disposal or appropriation under the public land laws, including the general mining laws, except for lease and/or conveyance under the R&PP Act and leasing under the mineral leasing laws.

Classification Comments: Interested persons may submit comments involving the suitability of the land for a park. Comments on the classification are restricted to whether the land is physically suited for the proposal, whether the use will maximize the future use or uses of the land, whether the use is consistent with local planning and zoning, or if the use is consistent with State and Federal programs.

Application Comments: Interested persons may submit comments regarding the specific use proposed in the application and plan of development and the management plan, whether the BLM followed proper administrative procedures in reaching the decision to lease or convey under the R&PP Act, or any other factor not directly related to the suitability of the land for R&PP use.

Before including your address, phone number, e-mail address, or other personal identifying information in your comment, you should be aware that your entire comment, including your personal identifying information, may be made publicly available at any time. While you can ask in your comment to withhold your personal identifying information from public review, we cannot guarantee that we will be able to do so.

Any adverse comments will be reviewed by the State Director of the BLM-ES. In the absence of any adverse comments, the classification of the land described in the notice will become effective 60 days after publication of this notice in the Federal Register. The land will not be conveyed until after the classification becomes effective.

Corey Grant,
Acting State Director.

[FR Doc. E9-16133 Filed 7-7-09; 8:45 am]

BILLING CODE 4310-GJ-P